NUCLEAR REGULATORY COMMISSION

Sunshine Federal Register Notice

Dates: Weeks of April 6, 13, 20, 27, May 4, 11, 2009.

Place: Commissioners' Conference Room, 11555 Rockville Pike, Rockville, Maryland.

Status: Public and closed.

Week of April 6, 2009

There are no meetings scheduled for the week of April 6, 2009.

Week of April 13, 2009—Tentative

Wednesday, April 15, 2009

9:30 a.m. Briefing on NRC Corporate Support (Public Meeting)

(Contact: Karen Olive, 301-415-2276).

This meeting will be webcast live at the Web address— http://www.nrc.gov.

Thursday, April 16, 2009

1:30 p.m. Briefing on Human Capital and EEO (Public Meeting)

(Contact: Kristin Davis, 301-492-2266).

This meeting will be webcast live at the Web address— http://www.nrc.gov.

Friday, April 17, 2009

9:30 a.m. Briefing on Low Level Radioactive Waste—Part 1 (Public Meeting)

(Contact: Patricia Swain, 301-415-5405).

This meeting will be webcast live at the Web address— http://www.nrc.gov.

Friday, April 17, 2009

1:30 p.m. Briefing on Low Level Radioactive Waste—Part 2 (Public Meeting)

(Contact: Patricia Swain, 301-415-5405).

This meeting will be webcast live at the Web address— http://www.nrc.gov.

Week of April 20, 2009—Tentative

Thursday, April 23, 2009

2 p.m. Briefing on Radioactive Source Security (Public Meeting)

(Contact: Kim Lukes, 301-415-6701).

This meeting will be webcast live at the Web address— http://www.nrc.gov.

Week of April 27, 2009—Tentative

There are no meetings scheduled for the week of April 27, 2009.

Week of May 4, 2009—Tentative

There are no meetings scheduled for the week of May 4, 2009.

Week of May 11, 2009—Tentative

Thursday, May 14, 2009

9 a.m. Briefing on the Results of the Agency Action Review Meeting (Public Meeting)

(Contact: Shaun Anderson, 301-415-2039).

This meeting will be webcast live at the Web address— http://www.nrc.gov.

*The schedule for Commission meetings is subject to change on short notice. To verify the status of meetings, call (recording)—(301) 415-1292. Contact person for more information: Rochelle Bavol, (301) 415-1651.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

This notice is distributed electronically to subscribers. If you no longer wish to receive it, or would like to be added to the distribution, please contact the Office of the Secretary, Washington, DC 20555 (301-415-1969), or send an e-mail to darlene.wright@nrc.gov.

Dated: April 2, 2009.
Rochelle C. Bavol,
Office of the Secretary.

[FR Doc. E9-7943 Filed 4-3-09; 11:15 am]

BILLING CODE 7590-01-P